FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 010071-033.

Title: Cruise Lines International Association Agreement.

Parties: American Cruise Lines, Inc.; Carnival Cruise Lines; Celebrity Cruises, Inc.; Costa Cruise Lines; Crystal Cruises; Cunard Line; Disney Cruise Line; Holland America Line; MSC Cruises; NCL America; Norwegian Coastal Voyage, Inc./Bergen Line Services; Norwegian Cruise Line; Oceania Cruises; Orient Lines; Princess Cruises; Regent Seven Seas Cruises; Royal Caribbean International; Seabourn Cruise Line; SeaDream Yacht Club; Silversea Cruises, Ltd.; and Windstar Cruises.

Filing Party: Terry Dale, President; Cruise Lines International Association; 80 Broad Street; Suite 1800; New York, NY 10004.

Synopsis: The amendment reflects changes to the Association arising from its consolidation with the International Council of Cruise Lines and CLIA's subsequent incorporation. The amendment also adds NCL America and SeaDream Yacht Club as parties.

Agreement No.: 011574-017.

Title: Pacific Islands Discussion Agreement.

Parties: CMA CGM, SA; Compagnie Maritime Marfret, SA; Hamburg-Süd; Hapag-Lloyd AG; and Polynesia Line Ltd.

Filing Party: Wayne R. Rohde, Esq.; Sher & Blackwell, LLP; 1850 M Street, NW.; Suite 900; Washington, DC 20036.

Synopsis: The amendment removes Australia-New Zealand Direct Line as a party to the agreement.

Agreement No.: 011947-003.

Title: Grimaldi/Sallaum Space Charter Agreement.

Parties: Grimaldi Compagnia di Navigazione and Sallaum Lines SAL.

Filing Party: Wayne R. Rohde, Esq.; Sher & Blackwell LLP; 1850 M Street, NW.; Suite 900; Washington, DC 20036.

Synopsis: The amendment expands the geographic scope of the agreement to cover all ports in West Africa in the Senegal to Angola range.

Agreement No.: 201143-008.

Title: West Coast MTO Agreement.

Parties: APM Terminals Pacific, Ltd.; California United Terminals, Inc.; Eagle Marine Services, Ltd.; International Transportation Service, Inc.; Long Beach Container Terminal, Inc.; Seaside Transportation Service LLC; Trans Pacific Container Service Corporation; Total Terminals LLC; West Basin Container Terminal LLC; Yusen Terminals, Inc.; Pacific Maritime Services, L.L.C.; and SSA Terminal (Long Beach), LLC.

Filing Party: David F. Smith, Esq.; Sher & Blackwell LLP; 1850 M Street, NW.; Suite 900; Washington, DC 20036.

Synopsis: The amendment adds language and new Articles to the agreement to authorize the parties to discuss, agree upon and implement or assist in the implementation of measures to improve air quality in port areas and agree upon, test and implement security related measures, particularly those relating to transportation worker identification credentials.

Dated: December 8, 2006.
By Order of the Federal Maritime Commission.
Bryant L. VanBrakle,
Secretary.

[FR Doc. E6-21179 Filed 12-12-06; 8:45 am]

BILLING CODE 6730-01-P